DEPARTMENT OF COMMERCE

National Oceanic and Atmospheric Administration

RIN 0648-XA595

Draft 2011 Marine Mammal Stock Assessment Reports

AGENCY: National Marine Fisheries Service (NMFS), National Oceanic and Atmospheric Administration (NOAA), Commerce.

ACTION: Notice; request for comments.

SUMMARY: NMFS reviewed the Alaska, Atlantic, and Pacific regional marine mammal stock assessment reports (SARs) in accordance with the Marine Mammal Protection Act. SARs for marine mammals in the Alaska, Atlantic, and Pacific regions were revised according to new information. NMFS solicits public comments on draft 2011 SARs.

DATES: Comments must be received by November 22, 2011.

ADDRESSES: The 2011 draft SARs, summaries of them, and references cited in this notice are available in electronic form via the Internet at http://www.nmfs.noaa.gov/pr/sars/draft.htm.

Copies of the Alaska Regional SARs may be requested from Robyn Angliss, Alaska Fisheries Science Center, NMFS, 7600 Sand Point Way, NE BIN 15700, Seattle, WA 98115-0070.

Copies of the Atlantic, Gulf of Mexico, and Caribbean Regional SARs may be requested from Gordon Waring, Northeast Fisheries Science Center, 166 Water St., Woods Hole, MA 02543.

Copies of the Pacific Regional SARs may be requested from Jim Carretta, Southwest Fisheries Science Center, 8604 La Jolla Shores Drive, La Jolla, CA 92037-1508.

You may submit comments, identified by [NOAA-NMFS-2011-0200], by any of the following methods:

Electronic Submissions: Submit all electronic public comments via the Federal eRulemaking Portal http://www.regulations.gov.

Mail: Send comments or requests for copies of reports to: Chief, Marine Mammal and Sea Turtle Conservation Division, Office of Protected Resources, National Marine Fisheries Service, 1315 East-West Highway, Silver Spring, MD 20910-3226, Attn: Stock Assessments.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Shannon Bettridge, Office of Protected Resources, 301-427-8402, Shannon.Bettridge@noaa.gov; Robyn Angliss 206-526-4032, Robyn.Angliss@noaa.gov, regarding Alaska regional stock assessments; Gordon Waring, 508-495-2311, Gordon.Waring@noaa.gov, regarding Atlantic, Gulf of Mexico, and Caribbean regional stock assessments; or Jim Carretta, 858-546-7171, Jim.Carretta@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every three years for non-strategic stocks. The term “strategic stock” means a marine mammal stock: (A) For which the level of direct human-caused mortality exceeds the potential biological removal level; (B) which, based on the best available scientific information, is declining and is likely to be listed as a threatened species under the Endangered Species Act within the foreseeable future; or (C) which is listed as a threatened species or endangered species under the Endangered Species Act. NMFS and the FWS are required to revise a SAR if the status of the stock has changed or can be more accurately determined. NMFS, in conjunction with the Alaska, Atlantic, and Pacific independent Scientific Review Groups (SRGs), reviewed the status of marine mammal stocks as required and revised reports in the Alaska, Atlantic, and Pacific regions to incorporate new information. NMFS solicits public comments on the draft 2011 SARs.

Alaska Reports

In the Alaska region (waters off Alaska that are under the jurisdiction of the United States), SARs for 35 Alaska stocks (14 “strategic”, 21 “non-strategic” including 12 new harbor seal stocks) were updated or added. The following stocks were reviewed and considered for updating for 2011: Steller sea lion (western and eastern stocks), Northern fur seal, harbor seals (12 stocks), spotted seal, bearded seal, ringed seal, ribbon seal, beluga whale (Beaufort Sea, eastern Chukchi Sea, eastern Bering Sea, Bristol Bay, and Cook Inlet stocks), AT1 transient killer whale, harbor porpoise (Gulf of Alaska, Bering Sea, Southeast Alaska stocks), sperm whale, gray whale, humpback whale (western North Pacific and central North Pacific stocks), fin whale, North Pacific right whale, and bowhead whale. Most revisions included updates of abundance and/or mortality estimates. None of the updates resulted in change of status of a stock.

In light of the availability of new fishery observer data, serious injury and mortality data from the Alaska groundfish fisheries observer programs were updated for all stocks for the 2007- 2009 period regardless of whether they were scheduled for review in 2011. Serious injury and mortality estimates were changed for the following stocks: Killer whale (Alaska resident and Gulf of Alaska, Bering Sea, and Aleutian Islands Transient stocks) and Dall's porpoise.

In 2010, NMFS and the Alaska Native Harbor Seal Commission held their annual co-management meeting during which they agreed to proceed with a revised set of population boundaries for harbor seals in Alaska, resulting in a population structure of twelve harbor seal stocks in Alaska. NMFS is currently in the process of drafting individual SARs for the 12 stocks. Preliminary abundance estimates and PBR levels have been calculated for each harbor seal stock, and those estimates are included in the draft 2011 SARs. Serious injury and mortality records for harbor seals are reported; however, most of these records have not been assigned to a particular stock. At the recommendation of the Alaska SRG, data for all 12 harbor seals stocks in Alaska are presented in a single harbor seal SAR for 2011. NMFS expects to develop separate SARs for all 12 stocks in the 2012 SARs.

Typically, the most recent five years of data are used for estimating average annual serious injury and mortality of stocks. In 2007, the NMFS Alaska Fisheries Science Center (AFSC) developed a new database for the fisheries observer data and updated analytical methods for estimating bycatch. As a result of these changes, AFSC determined that Alaska fisheries observer data from 2007 onward could not be combined with data from analyses of data prior to 2006. Therefore, after consulting the SRG, the AFSC decided to base fishery observer serious injury and mortality estimates on an analysis of the most recent three-year period from 2007-2009.

NMFS decided to shift the eastern North Pacific gray whale SAR from the Alaska SARs to the Pacific SARs beginning in 2012. The NMFS Southwest Fisheries Science Center has the responsibility for conducting abundance estimates and management for the gray whale stock; and, therefore, the agency felt it was most appropriate for that Center to prepare the SAR. Both the Alaska SRG and Pacific SRG will review the 2012 gray whale SAR, and staff who compile the Pacific SARs will work closely with AFSC and Northwest Regional Office staff during the first year after this transition is made.

Ice-dependent seal (“ice seals”) SARs were updated in 2011 based on the availability of significant new information resulting from the status reviews conducted for these stocks.

Atlantic Reports

In the Atlantic region, SARs were revised for 14 Atlantic stocks and four Gulf of Mexico stocks. The updated western Atlantic (U.S. Atlantic coast, Gulf of Mexico, and U.S. Territories in the Caribbean) stocks include all the large whale stocks except sperm whales and blue whales, and those small cetacean and seal species that had fishery interactions. Of these, seven are “strategic” stocks: North Atlantic right whale, humpback whale, fin whale, sei whale, long-finned pilot whale, Atlantic white-sided dolphin (which became strategic because the 2002 abundance estimate is outdated), and harbor porpoise. The updated Gulf of Mexico stocks include Bryde's whale (which has now become “strategic” because the average annual human-caused mortality and serious injury exceeds PBR), pantropical spotted dolphin (not “strategic”), bottlenose dolphin-bay, sound and estuarine (all stocks “strategic”) and bottlenose dolphin-oceanic (not “strategic”).

Eight new Atlantic region SARs have been added in 2011. These include reports for five Caribbean species (bottlenose dolphin, Atlantic spotted dolphin, spinner dolphin, short-finned pilot whale, and Cuvier's beaked whale) and three Gulf of Mexico estuarine stocks of bottlenose dolphin that had previously been included in the bottlenose dolphin—bay, sound and estuarine stocks report (Barataria Bay, St. Joseph Bay and Choctawhatchee Bay). Because most of the bottlenose dolphin stock sizes are currently unknown but likely small, and relatively few mortalities and serious injuries would exceed PBR, NMFS considers each of these stocks a “strategic” stock. All Caribbean region stocks are being considered as strategic stocks due to lack of knowledge of stock size or anthropogenic mortality.

Pacific Reports

In the Pacific region (waters along the west coast of the United States, within waters surrounding the main and Northwest Hawaiian Islands, and within waters surrounding U.S. Territories in the Western Pacific), SARs were revised for nine stocks, including four “strategic” stocks (Hawaiian monk seal, Southern Resident killer whale, Hawaii Insular false killer whale, and Hawaii Pelagic false killer whale), and five “non-strategic” stocks (California sea lion, California harbor seal, Northern Oregon/Washington coast harbor porpoise, Washington Inland waters harbor porpoise, and Palmyra Atoll false killer whale). The remaining 66 Pacific region stocks under NMFS jurisdiction were not revised, and information on those stocks can be found in the final 2010 reports (Carretta et al. 2011). General updates are as follows.

Abundance estimates were updated for four stocks: California sea lion, California harbor seal, Hawaiian monk seal, and Southern Resident killer whale. The abundance estimate updates did not change the status of these stocks. The new abundance estimate for California sea lions increased the PBR from 8,511 to 9,200. The new abundance estimate for California harbor seals decreased the PBR from 1,896 to 1,600. PBRs for Hawaiian monk seals and Southern Resident killer whales are unchanged.

Updated information on human-caused mortality is presented for California Sea lions, California harbor seals, two harbor porpoise stocks, and three false killer whale stocks.

NMFS received a petition in October 2009 to list the Hawaii insular false killer whale as endangered under the Endangered Species Act. A Take Reduction Team was established in 2010 with the goal of reducing mortality and serious injury incidental to commercial fishing in the Hawaii pelagic, Hawaii insular, and Palmyra stocks of false killer whale (75 FR 2853, 19 January 2010). Details on the Take Reduction Plan and its proposed implementation were published in 2011 (76 FR 42082, 18 July 2011). New information on a population viability analysis for the stock of Hawaii Insular false killer whale is presented in the draft 2011 SAR.

Dated: August 18, 2011.
James H. Lecky,
Director, Office of Protected Resources, National Marine Fisheries Service.

[FR Doc. 2011-21654 Filed 8-23-11; 8:45 am]

BILLING CODE 3510-22-P